DEPARTMENT OF DEFENSE

Department of the Army

Availability for Non-Exclusive, Exclusive, or Partially Exclusive Licensing of U.S. Patent Concerning Vaccine Against Ricin Toxin

AGENCY: U.S. Army Medical Research and Materiel Command, DOD.

ACTION: Notice.

SUMMARY: In accordance with 37 CFR 404.6, announcement is made of the availability for licensing of U.S. Patent No. 5,453,271 entitled “Vaccine Against Ricin Toxin” issued 04/05/95. This patent has been assigned to the United States Government as represented by the Secretary of the Army.

ADDRESSES: Commander, U.S. Army Medical Research and Materiel Command, Attn: Command Judge Advocate, MCMR-JA, 504 Scott Street, Fort Detrick, Frederick, Maryland 21702-5012.

FOR FURTHER INFORMATION CONTACT: For patent issues, Ms. Elizabeth Arwine, Patent Attorney, (301) 619-7808. For licensing issue,s Dr. Paul Mele, Office of Research & Technology Assessment, (301) 619-6664. Both at telefax (301) 619-5034.

SUPPLEMENTARY INFORMATION: It is now possible to immunize susceptible mammals against the pathological effect of exposure to ricin, including inhalation of ricin, by administration of an immunogenic effective amount of ricin toxin subunits, including subunits of both the A chain and the B chain of the ricin toxin given separately to provide safe, efficacious protection.

Luz D. Ortiz,
Army Federal Register Liaison Officer.

[FR Doc. 02-1646 Filed 1-22-02; 8:45 am]

BILLING CODE 3710-08-M